DEPARTMENT OF TRANSPORTATION

Federal Aviation Administration

14 CFR Part 39

[Docket No. FAA-2013-0966; Directorate Identifier 2013-CE-040-AD; Amendment 39-17799; AD 2014-05-27]

RIN 2120-AA64

Airworthiness Directives; Rockwell Collins, Inc. Transponders

AGENCY: Federal Aviation Administration (FAA), DOT.

ACTION: Final rule.

SUMMARY: We are adopting a new airworthiness directive (AD) for certain Rockwell Collins TPR-720 and TPR-900 Mode select (S) transponders that are installed on airplanes. This AD was prompted by the identification that the TPR-720 and TPR-900 Mode S transponders respond intermittently to Mode S interrogations from both ground-based and traffic collision avoidance system (TCAS-) equipped airplanes. This AD requires testing and calibration of the alignment of the transponders. We are issuing this AD to correct the unsafe condition on these products.

DATES: This AD is effective May 2, 2014.

The Director of the Federal Register approved the incorporation by reference of a certain publication listed in this AD as of May 2, 2014.

ADDRESSES: For service information identified in this AD, contact Rockwell Collins, Inc., Collins Aviation Services, 350 Collins Road NE., M/S 153-250, Cedar Rapids, IA 52498-0001; telephone: 888-265-5467 (U.S.) or 319-265-5467; fax: 319-295-4941 (outside U.S.); email: techmanuals@rockwellcollins.com; Internet: http://www.rockwellcollins.com/Services_and_Support/Publications.aspx. You may review this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2013-0966; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Roger A. Souter, FAA, Wichita Aircraft Certification Office, 1801 Airport Road, Room 100, Wichita, Kansas 67209; telephone: 316-946-4134; facsimile: 316-946-4107; email address: roger.souter@faa.gov.

SUPPLEMENTARY INFORMATION:

Discussion

We issued a notice of proposed rulemaking (NPRM) to amend 14 CFR part 39 by adding an AD that would apply to certain Rockwell Collins TPR-720 and TPR-900 Mode select (S) transponders that are installed on airplanes. The NPRM published in the Federal Register on November 19, 2013 (78 FR 69318). The NPRM proposed to require testing and calibration of the alignment of the TPR-720 and TPR-900 Mode S transponders.

Comments

We gave the public the opportunity to participate in developing this AD. The following presents the comments received on the proposal and the FAA's response to each comment.

Request FAA Review Impact on AD 92-11-09 (57 FR 20744, May 15, 1992)

Konstantinos Sideris of Airbus commented that AD 92-11-09 (57 FR 20744, May 15, 1992) required converting part number (P/N) 622-7878-020 into P/N 622-7878-301. The commenter stated that the proposed AD would affect both of those P/Ns, and he requested the FAA review the impact of the proposed AD on AD 92-11-09 and consider cancelling AD 92-11-09.

After review, we disagree with cancelling AD 92-11-09 (57 FR 20744, May 15, 1992). This AD requires a different task than that required in AD 92-11-09 and assures timely test and calibration for all affected P/Ns, including those affected and referenced in AD 92-11-09.

We did not change the final rule AD action based on this comment.

Request FAA Add and Delete Specific Model Airplanes from Applicability

The Boeing Company requested we add Models 737 classics, 737NG, 757, and 767 airplanes to the Applicability and exclude the Model 747-8.

We agree that this AD may apply to Models 737, 757, and 767 airplanes; however, paragraph (c), Applicability, of this AD is not intended as all-inclusive. Paragraph (c) of this AD states, “. . . transponders that are installed on but not limited to the airplanes . . .” and gives a partial listing of airplanes known to have the affected transponders installed. In our discussions with Rockwell Collins, they discussed that the subject transponders may be installed by supplemental type certificate on models other than the models that are known to have the affected transponders installed.

We added language to paragraph (c), Applicability, to clarify that the listing of airplanes is not all-inclusive.

Request FAA Change the Cost of Compliance Estimate

The Boeing Company requested we adjust the total estimated cost of compliance to account for the added airplane models the commenter requested we add.

We disagree with this comment. We based the estimated cost of compliance on the number of transponder units produced by Rockwell Collins, not the estimated number of airplanes that may have the transponders installed.

We did not change the final rule AD action based on this comment.

Request FAA Change the Language of the Required Action

Craig Amadeo of Delta Airlines requested we change the language in the AD to clarify that the operators do not have to return the transponders to Rockwell Collins for the testing and calibration. Delta has full capability to test and align the receiver of the affected transponders. The commenter also requested we add more specific language to the AD to clarify the testing and calibration procedures from the component maintenance manual (CMM) required by the AD.

We agree that the operators do not need to return the transponders to Rockwell Collins for the testing and calibration. Any properly certified repair facility may do the required work. We also agree mechanics should know the applicable procedures to use from the CMM. However, the AD directs mechanics to the Rockwell Collins service information that references the specific procedures and figures to use for the required work. We do not agree that quoting the service information in the AD is necessary.

We added language to the final rule AD action to clarify operators do not need to return the transponders to Rockwell Collins for the required testing and calibration.

Request for Different Service Information

Robert Semar of United Airlines stated that a normal shop visit with the transponders does not accomplish the testing required by this AD. We infer the commenter wants more service information.

We agree that a normal shop visit will not accomplish the testing required by this AD; however, we disagree that more service information is required. The service letter referenced in the AD identifies the specific procedures required to comply with the AD.

We did not change the final rule AD action based on this comment.

Request FAA Change Cost of Compliance

Robert Semar of United Airlines requested we add the cost of removal/installation of the transponders to the cost of compliance section of the AD.

We agree and have added the cost to remove and reinstall the transponders to the estimated cost of compliance for this AD action.

Request Confirmation of the Applicability

Kevin Hallworth requested we confirm whether the AD should also apply to the Rockwell Collins TPR-901, TDR-94, and TDR-94D Mode S transponders. The commenter asked if they are similarly affected.

We have confirmed that the TPR-901 is not affected by this AD. The associated circuitry in the TPR-901 is significantly different than that of the affected transponders. The TDR-94 and TDR-94D transponders are not affected by this issue and are not part of this AD action.

We did not change the final rule AD action based on this comment.

Conclusion

We reviewed the relevant data, considered the comments received, and determined that air safety and the public interest require adopting this AD with the changes described previously and minor editorial changes. We have determined that these minor changes:

• Αre consistent with the intent that was proposed in the NPRM (78 FR 69318, November 19, 2013) for correcting the unsafe condition; and

• Do not add any additional burden upon the public than was already proposed in the NPRM (78 FR 69318, November 19, 2013).

We also determined that these changes will not increase the economic burden on any operator or increase the scope of this AD.

Costs of Compliance

We estimate that this AD affects 4,000 products that are installed on airplanes of U.S. registry.

We estimate the following costs to comply with this AD:

Estimated Costs
Action | Labor cost | Parts cost | Cost per product | Cost on U.S. operators
Removal and reinstallation of the transponders | 2 × $85 per hour = $170 | Not applicable | $170 | $680,000
Test and calibration of the transponders | 4 × $85 per hour = $340 | Not applicable | 340 | 1,360,000

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-05-27 Rockwell Collins, Inc.: Amendment 39-17799; Docket No. FAA-2013-0966; Directorate Identifier 2013-CE-040-AD.

(a) Effective Date

This AD is effective May 2, 2014.

(b) Affected ADs

None.

(c) Applicability

(1) This AD applies to the following Rockwell Collins, Inc. Mode S transponders that are installed on but not limited to the airplanes listed in paragraphs (c)(2)(i) and (c)(2)(ii) of this AD:

(i) TPR-720: CPN 622-7878-001, 622-7878-020, 622-7878-120, 622-7878-200, 622-7878-201, 622-7878-301, 622-7878-440, 622-7878-460, 622-7878-480, 622-7878-901; and

(ii) TPR-900: CPN 822-0336-001, 822-0336-020, 822-0336-220, 822-0336-440, 822-0336-460, 822-0336-480, 822-0336-902.

(2) The products listed in paragraphs (c)(1)(i) and (c)(1)(ii) of this AD may be installed on but not limited to the following airplanes, certificated in any category:

(i) Airbus Models A319, A320, A330, A340; and

(ii) The Boeing Company Models B737, B747, B757, B767, B777, MD-80, and DC-9.

(3) The listing of airplanes in paragraphs (c)(2)(i) and (c)(2)(ii) of this AD is not intended as all-inclusive. The affected transponders may be installed using a supplemental type certificate or other means on other airplanes not listed in those paragraphs.

(d) Subject

Joint Aircraft System Component (JASC)/Air Transport Association (ATA) of America Code 34, Navigation.

(e) Unsafe Condition

This AD was prompted by the identification that the TPR-720 and TPR-900 Mode S transponders respond intermittently to Mode S interrogations from both ground-based and traffic collision avoidance system equipped airplanes. We are issuing this AD to correct possible misalignment issues with the transponders that could result in increased pilot and air traffic controller workload as well as reduced separation of airplanes.

(f) Compliance

Comply with this AD within the compliance times specified in paragraph (g) of this AD, unless already done.

(g) Test and Calibration

(1) Within the next 2 years after the effective date of this AD and repetitively thereafter at intervals not to exceed every 4 years, send the TPR-720 and TPR-900 Mode S transponders to a properly certified repair facility for test and calibration to assure proper alignment following Rockwell Collins Service Information Letter 13-1, Revision No. 1, 523-0821603-101000, dated October 24, 2013.

(2) Rockwell Collins Service Information Letter 13-1, Revision No. 1, 523-0821603-101000, dated October 24, 2013, recommends the affected transponders be sent to a Rockwell Collins authorized repair facility for the alignment and return to service testing; however, any properly certified repair facility may do this alignment and return to service testing.

(h) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (i) of this AD.

(2) Before using any approved AMOC, notify your appropriate principal inspector, or lacking a principal inspector, the manager of the local flight standards district office/certificate holding district office.

(i) Related Information

For more information about this AD, contact Roger A. Souter, FAA, Wichita ACO, 1801 Airport Road, Room 100, Wichita, Kansas 67209; telephone: 316-946-4134; facsimile: 316-946-4107; email address: roger.souter@faa.gov.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Rockwell Collins Service Information Letter 13-1, Revision No. 1, 523-0821603-101000, dated October 24, 2013.

(ii) Reserved.

(3) For service information identified in this AD, contact Rockwell Collins, Inc., Collins Aviation Services, 350 Collins Road NE., M/S 153-250, Cedar Rapids, IA 52498-0001; telephone: 888-265-5467 (U.S.) or 319-265-5467; fax: 319-295-4941 (outside U.S.); email: techmanuals@rockwellcollins.com; Internet: http://www.rockwellcollins.com/Services_and_Support/Publications.aspx.

(4) You may review this referenced service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on March 4, 2014.
Steven W. Thompson,
Acting Manager, Small Airplane Directorate, Aircraft Certification Service.

[FR Doc. 2014-05202 Filed 3-27-14; 8:45 am]

BILLING CODE 4910-13-P